DEPARTMENT OF STATE

[Public Notice: 11711]

Defense Trade Advisory Group; Notice of Open Meeting

The Defense Trade Advisory Group (DTAG) will meet in open session from 1:00 p.m. until 5:00 p.m. on Thursday, April 28, 2022. Based on federal and state guidance in response to the Coronavirus Disease 2019 (COVID-19) pandemic at the time the meeting was scheduled, the meeting will be held virtually. The virtual forum will open at 12:00 p.m. The membership of this advisory committee consists of private sector defense trade representatives, appointed by the Assistant Secretary of State for Political-Military Affairs, who advise the Department on policies, regulations, and technical issues affecting defense trade. The DTAG was established as an advisory committee under the authority of 22 U.S.C. 2651a and 2656 and the Federal Advisory Committee Act, 5 U.S.C. app.

The purpose of the meeting will be to discuss current defense trade issues and topics for further study. The following agenda topics will be discussed and final reports presented: (1) Provide industry perceptions of Controlled Unclassified Information (CUI) obligations and any inconsistencies, redundancies, or challenges/difficulties in implementing requirements or guidance, including areas that need clarification, (2) provide a recommendation for the modification or creation of an exemption that would allow an export and associated import (on a one-for-one basis) for defense articles to be exported to a foreign original equipment manager (OEM) for repair or replacement and imported into the United States as a replacement or repaired item, and (3) provide a list of terms that are used in the International Traffic in Arms Regulations (ITAR) but not defined, and for which the DTAG considers a definition to be a high priority.

The meeting will be held virtually via WebEx. There will be one WebEx invitation for each attendee, and only the invited attendee should use the invitation. Please let us know if you need any of the following accommodations: Live captions, digital/text versions of webinar materials, or other (please specify).

Members of the public may attend this virtual session and may submit questions by email following the formal DTAG presentation. Members of the public may also submit a brief statement (less than three pages) to the committee in writing for inclusion in the public minutes of the meeting. Each member of the public that wishes to attend this session must provide: Name and contact information, including an email address and phone number, and any request for reasonable accommodation to the DTAG Designated Federal Officer (DFO), Deputy Assistant Secretary Michael Miller, via email at DTAG@state.gov by COB Tuesday, April 26, 2022.

FOR FURTHER INFORMATION CONTACT: Ms. Pecolia Henderson, PM/DDTC, SA-1, 12th Floor, Directorate of Defense Trade Controls, Bureau of Political-Military Affairs, U.S. Department of State, Washington, DC 20522-0112; telephone (202) 663-2748 or email DTAG@state.gov.

Zachary A. Parker,
Director, Office of Directives Management, U.S. Department of State.

[FR Doc. 2022-07512 Filed 4-7-22; 8:45 am]

BILLING CODE 4710-25-P